DEPARTMENT OF THE INTERIOR

National Park Service

[NPS-WASO-NRNHL-15540: PPWOCRADI0, PCU00RP14.R50000]

National Register of Historic Places; Notification of Pending Nominations and Related Actions

Nominations for the following properties being considered for listing or related actions in the National Register were received by the National Park Service before April 5, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by May 12, 2014. Before including your address, phone number, email address, or other personal identifying information in your comment, you should be aware that your entire comment—including your personal identifying information—may be made publicly available at any time. While you can ask us in your comment to withhold your personal identifying information from public review, we cannot guarantee that we will be able to do so.

Dated: April 11, 2014.
J. Paul Loether,
Chief, National Register of Historic Places, National Historic Landmarks Program.

DISTRICT OF COLUMBIA

District of Columbia

Immaculata Seminary Historic District, (Tenleytown in Washington, DC: 1770-1941, MPS), 4340 Nebraska Ave. NW., Washington, 14000209

Meridian Hill Historic District, 2201-2319 15th, 2400-2600 blks. 15th & 16th, 2600-3000 blks. 16th Sts. NW., 1600 blk. of Crescent Pl. NW., Washington, 14000211

FLORIDA

Miami-Dade County

Sunshine State Arch, Jct. of NW., 13th Ave. & NW., 167th St., Miami Gardens, 14000210

IOWA

Clay County

North Grand Avenue Residential Historic District, N. Grand Ave. from 9th to 18th Sts. & 1st Ave. W. to 1st Ave. E., Spencer, 14000212

Linn County

Our Mother of Sorrows Grotto Historic District, 1330 Elmhurst Dr. NE., Cedar Rapids, 14000213

MASSACHUSETTS

Barnstable County

First Congregational Parish Historic District, 3 First Parish Ln., 26 Bridge Rd., Truro, 14000214

Franklin County

Moore's Corner Historic District, North Leverett, Dudleyville, Rattlesnake Gutter & Church Hill Rds., Leverett, 14000215

MINNESOTA

Goodhue County

Bringgold, Jacob A. and Mary Finn House, 318 SW., 2nd St., Pine Island, 14000216

Hennepin County

Lake Harriet Methodist Episcopal Church, 4401 Upton Ave. S., Minneapolis, 14000217 Ramsey County

United States Post Office and Custom House, 180 Kellogg Blvd. E., St. Paul, 14000218

Washington County

District No. 34 School, 13728 St. Croix Trail S., Denmark Township, 14000220

MONTANA

Carbon County

Red Lodge—Cooke City Approach Road Historic District, U.S. 212, Red Lodge, 14000219

Fergus County

St. Wenceslaus Catholic Church, 7724 Danvers Rd., Danvers, 14000221

NEW JERSEY

Bergen County

Ridgewood Country Club, 96 W. Midland Ave., Paramus Borough, 14000222

NEW YORK

Cayuga County

Tryon, Frank and Eliza, House, 8976 N. Seneca St., Weedsport, 14000223

Dutchess County

Bangall Post Office, 105 Hunns Lake Rd., Bangall, 14000224

Ontario County

Geneva Downtown Commercial Historic District, 8-156 Castle, 16 & 20 E. Castle, 396-555 Exchange, 20-120 Seneca, 24-52, Linden & 317, 319, 325 & 329 Main Sts., Geneva, 14000225

Schenectady County

Glenville District No. 5 Schoolhouse, 2140 Potter Rd., Glenville, 14000226

NORTH CAROLINA

Forsyth County

Hoots Milling Company Roller Mill, 1151 Canal Dr., Winston-Salem, 14000227

Gaston County

Bessemer City Downtown Historic District, Roughly bounded by 13th & E. Alabama Sts., E. & W. Virginia, E. Alabama & W. Pennsylvania Aves., Bessemer City, 14000228

Moore County

Firleigh Farms, 252 Firleigh Rd., Southern Pines, 14000229

Wake County

Fuquay Springs Historic District (Boundary Increase), (Wake County MPS), Roughly bounded by S. Main & W. Spring Sts., Sunset & Kite Drs., Fuquay Varina, 14000230

VIRGINIA

Danville Independent City

Mechanicsville Historic District, Floyd, High, North Ridge, Monroe & Upper Sts., Danville (Independent City), 14000231

Fauquier County

Carters Run Rural Historic District, Generally centered along Carters Run, Scotts & E. side of Free State Rds., Marshall, 14000236

The Plains Historic District, Parts of Main, Mosby, Lee, Bragg, Stuart, Jackson, Pickett & Broad Sts., Fauquier & Loudoun Aves., Hopewell Rd., The Plains, 14000232

Frederick County

Millbank, 3100 Berryville Rd., Winchester, 14000233

Gloucester County

Point Lookout Archaeological Site, Address Restricted, White Marsh, 14000234

Roanoke Independent City

Salem Avenue—Roanoke Automotive Commercial Historic District (Boundary Increase II), 400 & 500 blks. of Campbell Ave. SW., Roanoke (Independent City), 14000235

Rockingham County

Melrose Caverns and Harrison Farmstead, 6639 N. Valley Pike, Harrisonburg, 14000237

Plains Mill, 14767 Plains Mill Rd., Timberville, 14000238

Virginia Beach Independent City

Cavalier Hotel, 4200 Pacific Ave., Virginia Beach (Independent City), 14000239

Warren County

Lackawanna, 236 Riverside Dr., Front Royal, 14000240

A request to move has been received for the following resource:

WASHINGTON

Snohomish County

Green Mountain Lookout, Darrington Ranger District, Darrington, 88000117

[FR Doc. 2014-09379 Filed 4-24-14; 8:45 am]

BILLING CODE 4312-51-P